ENVIRONMENTAL PROTECTION AGENCY

[EPA-HQ-OW-2008-0150; FRL 9940-49-OEI]

Information Collection Request Submitted to OMB for Review and Approval; Comment Request; Establishing No-Discharge Zones (NDZs) Under Clean Water Act Section 312 (Renewal)

AGENCY: Environmental Protection Agency (EPA).

ACTION: Notice.

SUMMARY: The Environmental Protection Agency has submitted an information collection request (ICR), “Establishing No-Discharge Zones (NDZs) Under Clean Water Act § 312 (Renewal)” (EPA ICR No. 1791.07, OMB Control No. 2040-0187) to the Office of Management and Budget (OMB) for review and approval in accordance with the Paperwork Reduction Act (44 U.S.C. 3501 et seq.). This is a proposed extension of the ICR, which is currently approved through December 31, 2015. Public comments were previously requested via the Federal Register (80 FR 50276) on August 19, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 27, 2016.

ADDRESSES: Submit your comments, referencing Docket ID Number EPA-HQ-OW-2008-0150, to (1) EPA online using www.regulations.gov (our preferred method), by email to OW-Docket@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Virginia Fox-Norse, Oceans and Coastal Protection Division, Office of Wetlands, Oceans and Watersheds, (4504T), Environmental Protection Agency, 1200 Pennsylvania Ave. NW., Washington, DC 20460; telephone number: 202-566-1266; email address: fox-norse.virginia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: EPA requires the collection of information by states interested in designating state waters under the Clean Water Act § 312(f) as areas prohibiting the discharge of treated or untreated sewage from vessels. There are two information collection activities covered by this ICR:

(A) Sewage No-discharge Zones: The need for EPA to obtain information for, or to support, the establishment of no-discharge zones (NDZs) for vessel sewage in state waters stems from CWA sections 312(f)(3), (f)(4)(A), and (f)(4)(B), and implementing regulations at 40 CFR 140.4. No-discharge zones are established to provide greater environmental protection of specified state waters from treated and untreated vessel sewage. This ICR addresses the information requirements associated with the establishment of NDZs for vessel sewage.

(B) UNDS No-discharge Zones: Under section 312(n) of the Clean Water Act (“Uniform National Discharge Standards for Vessels of the Armed Forces” or “UNDS”) no-discharge zones for discharges from Armed Forces vessels may be established by either state prohibition or EPA prohibition following the procedures in 40 CFR part 1700. UNDS also provides that the Governor of any state may petition EPA and the Secretary of Defense to review any determination or standard promulgated under the UNDS program if there is significant new information that could reasonably result in a change to the determination or standard. This ICR discusses the information that is required from a state if it decides (1) to establish a NDZ by state prohibition or (2) to apply for a NDZ by EPA prohibition for the UNDS discharges for which EPA and DOD have determined that it is not reasonable or practicable to require a Marine Pollution Control Device to mitigate adverse effects on the marine environment. 40 CFR 1700.5. The ICR also discusses the information that is required from a state to submit a petition for review of EPA and DOD determinations that it is not reasonable or practicable to require a Marine Pollution Control Device for a particular UNDS discharge identified at 40 CFR 1700.5.

Form Numbers: None.

Respondents/affected entities: States

Respondent's obligation to respond: The responses to this collection of information are required to obtain the benefit of a sewage NDZ (CWA sections 312(f)(3), (f)(4)(A), and (f)(4)(B), and subsequent regulations at 40 CFR 140.4. The responses to this collection of information are required to obtain the benefit of an UNDS NDZ or a review of an UNDS determination or standard (see 33 U.S.C. 1322(n)).

Estimated number of respondents: 20 (total).

Frequency of response: One time.

Total estimated burden: 1,083 hours (per year). Burden is defined at 5 CFR 1320.03(b).

Total estimated cost: $54,938 (per year), includes $998 annualized capital or operation & maintenance costs.

Changes in the Estimates: There is a decrease of 1,183 hours in the total estimated respondent burden compared with the ICR currently approved by OMB. This decrease is due to adjustments to the estimates reflecting a reduction in expected program activity.

Courtney Kerwin,
Acting Director, Collection Strategies Division.

[FR Doc. 2015-32613 Filed 12-24-15; 8:45 am]

BILLING CODE 6560-50-P